NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application for operation of a 54-foot steel-hulled ketch, Northanger, sailing and making landings along the west coast of the Antarctic Peninsula, operated by the Explorer's Corner LLC, a company within the United States. The application is submitted to NSF pursuant to regulations issued under the Antarctic Conservation Act of 1978.

DATES: Interested parties are invited to submit written data, comments, or views with respect to this permit application within August 27, 2012. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale or Nadene Kennedy at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for operation of a sailing ketch, Northanger, conducting passenger landings and camping along the western coast of the Antarctic Peninsula. The small amount of waste created by the expedition team will be removed, including all fuel bottles, batteries, plastics, and non-combustible wastes, including perishable and nonperishable food wastes.

The permit applicant is: Olaf Malver, Explorers' Corner LLC, C/O Natural Habitat Adventures, 833 W. South Boulder Road, Louisville, CO 80027. Application number: 2013 WM-001.

Nadene G. Kennedy,
Permit Officer.

[FR Doc. 2012-18308 Filed 7-26-12; 8:45 am]

BILLING CODE 7555-01-P